DEPARTMENT OF THE INTERIOR

National Park Service

[NPS-WASO-NAGPRA-NPS0027166; PPWOCRADN0-PCU00RP14.R50000]

Notice of Intent To Repatriate Cultural Items: St. Joseph Museums, Inc., St. Joseph, MO

AGENCY: National Park Service, Interior.

ACTION: Notice.

SUMMARY: The St. Joseph Museum, in consultation with the appropriate Indian Tribes or Native Hawaiian organizations, has determined that the cultural items listed in this notice meet the definition of objects of cultural patrimony. Lineal descendants or representatives of any Indian Tribe or Native Hawaiian organization not identified in this notice that wish to claim these cultural items should submit a written request to the St. Joseph Museum. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the St. Joseph Museum, at the address in this notice by March 11, 2019.

ADDRESSES: Trevor Tutt, St. Joseph Museums, Inc., 3406 Frederick Avenue, St. Joseph, MO 64506, telephone (816) 232-8471, email trevor@stjosephmuseum.org.

SUPPLEMENTARY INFORMATION: Notice is here given in accordance with the Native American Graves Protection and Repatriation Act (NAGPRA), 25 U.S.C. 3005, of the intent to repatriate cultural items under the control of the St. Joseph Museums, Inc., St. Joseph, MO, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The three objects of cultural patrimony are a Life Stick, tattooing needle from a sacred bundle, and a stick bundle. In October 1915, Harry L. George purchased an “Osage Life Stick” from Vern Thornburgh of Lincoln, NE, for $12.50. Francis La Flesche was in correspondence with Mr. Thornburgh regarding the Life Stick and stated that it belonged to “See Haw” before his death. La Flesche also stated that the Life Stick had belonged to one of the Buffalo clans of the Osage tribe and was used in ceremonies. Based on consultation and the available information, the Life Stick fits the NAGPRA definition of an object of cultural patrimony.

In March 1916, Harry L. George purchased a tattooing needle from the Indian Curio Company of Oklahoma City, OK, for $10. According to correspondence, George was trading items purchased from Thornburgh with the Indian Curio Company. Based on consultation with the Osage Nation, the tattooing needle was a component of a sacred bundle, was removed from the bundle, and was sold to Mr. George.

On an unknown date, Harry L. George acquired a bundle of counting sticks. During consultation with the Osage Nation, the bundle of counting sticks was identified as a consecrated item and an object of cultural patrimony.

Consultation with the Osage Nation on these three objects began in July 2015. Representatives of the Osage Nation visited the St. Joseph Museum in July 2017 to view the Harry L. George collection. During consultation, the Osage Nation identified the objects listed above as objects of cultural patrimony. After consulting with the Osage Traditional Cultural Advisors Committee, in July 2018, the Osage Nation requested the repatriation of these three cultural items.

Determinations Made by the St. Joseph Museum

Officials of the St. Joseph Museum have determined that:

• Pursuant to 25 U.S.C. 3001(3)(D), the three cultural items described above have ongoing historical, traditional, or cultural importance central to the Native American group or culture itself, rather than property owned by an individual.

• Pursuant to 25 U.S.C. 3001(2), there is a relationship of shared group identity that can be reasonably traced between the objects of cultural patrimony and The Osage Nation (previously listed as the Osage Tribe).

Additional Requestors and Disposition

Lineal descendants or representatives of any Indian Tribe or Native Hawaiian organization not identified in this notice that wish to claim these cultural items should submit a written request with information in support of the claim to Trevor Tutt, St. Joseph Museums, Inc., 3406 Frederick Avenue, St. Joseph, MO 64506, telephone (816) 232-8471, email trevor@stjosephmuseum.org, by March 11, 2019. After that date, if no additional claimants have come forward, transfer of control of the objects of cultural patrimony to The Osage Nation (previously listed as the Osage Tribe) may proceed.

The St. Joseph Museum is responsible for notifying The Osage Nation (previously listed as the Osage Tribe) that this notice has been published.

Dated: December 11, 2018.
Melanie O'Brien,
Manager, National NAGPRA Program.

[FR Doc. 2019-01640 Filed 2-7-19; 8:45 am]

BILLING CODE 4312-52-P